INTERNATIONAL TRADE COMMISSION

[Investigation No. 332-415]

U.S. Trade and Investment With Sub-Saharan Africa

AGENCY: United States International Trade Commission.

ACTION: Notice of preparation of third report and opportunity to submit information and comments.

EFFECTIVE DATE: April 29, 2002.

SUMMARY: Following receipt on April 12, 2000, of a letter from the United States Trade Representative (USTR), the Commission instituted investigation No. 332-415, U.S. Trade and Investment with Sub-Saharan Africa, under section 332(g) of the Tariff Act of 1930 (19 U.S.C. 1332(g)) for the purpose of preparing a series of five annual reports. This is the third report in the series, and the Commission plans to transmit this third report to the USTR by December 10, 2002.

FOR FURTHER INFORMATION CONTACT: Dr. Laurie-Ann Agama, Office of Economics (202-205-3220), or Mr. William Gearhart, Office of the General Counsel (202-205-3091) for information on legal aspects of the investigation. The media should contact Ms. Margaret O'Laughlin, Office of External Relations (202-l819).

Hearing impaired individuals are advised that information on this matter can be obtained by contacting the TDD terminal on 202-205-1810.

Background

Pursuant to authority under section 332(g) of the Tariff Act of 1930, the USTR requested that the Commission prepare a series of annual report for five years containing the following information:

1. For the last five years (and the latest quarter available), data for U.S. merchandise trade and U.S. services trade with sub-Saharan Africa, including statistics by country, by major sectors, and by the top 25 commodities, as well as statistics on imports from sub-Saharan Africa under the GSP program by country and major product categories/commodities.

2. Country-by-country profiles of the economies of each sub-Saharan African country, including information on major trading partners, by country.

3. Sector profiles for sub-Saharan Africa, including information on trade, investment, industry and policy developments, by major sector. The five sector profiles in this investigation include: petroleum and energy, minerals and mining, chemicals and related products, agricultural products, and textiles, apparel and footwear.

4. A summary of the trade, services, and investment climates in each of the countries in sub-Saharan Africa, including a description of the basic tariff structure (e.g., the average tariff rate and the average agricultural tariff rate). The summaries should also include information on significant impediments to trade, including any import bans.

5. Updates on regional integration in sub-Saharan Africa and statistics on U.S. trade with major regional groupings (COMESA, EAC, ECOWAS, IGAD, SACU, SADC, and WAEMU). Where applicable, information should be provided on the regional group's tariff structure.

6. A description of the U.S. tariff structure for imports from Africa.

7. A summary of U.S. and total foreign direct investment and portfolio investment in sub-Saharan Africa.

8. Information on sub-Saharan African privatization efforts based on publicly available information.

9. A summary of multilateral and U.S. bilateral assistance to the countries of sub-Saharan Africa.

The USTR requested that the Commission provide its first report by December 2000, and annually for a period of 4 years thereafter. The second report in the series was delivered to USTR on December 10, 2001. The third report shall be delivered no later than December 10, 2002. The 48 countries of sub-Saharan Africa covered in this investigation include: Angola, Benin, Botswana, Burkina Faso, Burundi, Cameroon, Cape Verde, Central African Republic, Chad, Comoros, Democratic Republic of the Congo, Côte d'Ivoire, Djibouti, Equatorial Guinea, Eritrea, Ethiopia, Gabon, The Gambia, Ghana, Guinea, Guinea-Bissau, Kenya, Lesotho, Liberia, Madagascar, Malawi, Mali, Mauritania, Mauritius, Mozambique, Namibia, Niger, Nigeria, Republic of the Congo, Rwanda, São Tomé and Principe, Senegal, Seychelles, Sierra Leone, Somalia, South Africa, Sudan, Swaziland, Tanzania, Togo, Uganda, Zambia, and Zimbabwe.

Written Submissions: The Commission does not plan to hold a public hearing in connection with this third report. However, interested persons are invited to submit written statements concerning matters to be addressed in the report. Commercial or financial information that a person desires the Commission to treat as confidential must be submitted on separate sheets of paper, each clearly marked “Confidential Business Information” at the top. The Commission's Rules do not authorize filing of submissions with the Secretary by facsimile or electronic means.

All written submissions must conform with the provisions of section 201.8 of the Commission's Rules of Practice and Procedure (19 C.F.R 201.8). All submissions requesting confidential treatment must conform with the requirements of section 201.6 of the Commission's Rules (19 CFR 201.6). All written statements, except for confidential business information will be made available for inspection by interested persons in the Office of the Secretary to the Commission. To be assured of consideration, written statements relating to the Commission's report should be submitted at the earliest possible date and should be received not later than July 19, 2002. All submissions should be addressed to the Secretary, United States International Trade Commission, 500 E Street, SW, Washington D.C. 20436. Persons with mobility impairments who will need special assistance in gaining access to the Commission should contact the Office of the Secretary at 202-205-2000.

By order of the Commission.

Issued: May 2, 2002.
Marilyn R. Abbott,
Secretary.

[FR Doc. 02-11285 Filed 5-6-02; 8:45 am]

BILLING CODE 7020-02-P